DEPARTMENT OF ENERGY

Federal Energy Regulatory Commission

18 CFR Part 141

[Docket No. RM03-8-000; Order No. 646]

Quarterly Financial Reporting and Revisions to the Annual Reports

Issued June 16, 2004.

AGENCY: Federal Energy Regulatory Commission.

ACTION: Final rule; correction notice.

SUMMARY: The Federal Energy Regulatory Commission published in the Federal Register a final rule amending its financial reporting regulations to establish new quarterly financial reporting for respondents that file FERC Annual Reports. The filing date for non-major public utilities and licensees to submit the quarterly financial report for the period January 1 through March 31, 2004, was incorrect. This filing date should read July 23, 2004, instead of June 23, 2004. This document corrects the final rule by revising this date.

DATES: Effective on June 16, 2004.

FOR FURTHER INFORMATION CONTACT: Julia A. Lake, Office of the General Counsel, Federal Energy Regulatory Commission, 888 First Street, NE., Washington, DC 20426 (202) 502-8370.

SUPLEMENTARY INFORMATION: The Federal Energy Regulatory Commission published in the Federal Register of February 26, 2004, Order No. 646, a final rule amending the Commission's financial reporting regulations to establish new quarterly financial reporting for respondents that currently file Annual Reports with the Commission. 69 FR 9030 (2004). The filing date for non-major public utilities and licensees to submit the quarterly financial report for the period January 1 through March 31, 2004, shown in section 141.400, paragraph (b)(3)(i) was incorrect. This filing date should read July 23, 2004, instead of June 23, 2004. This document corrects the final rule by revising this date.

List of Subjects in 18 CFR Part 141

Electric power, Reporting and record keeping requirements.

Magalie R. Salas,
Secretary.

Accordingly, 18 CFR part 141 is corrected by making the following correcting amendment:

PART 141—STATEMENTS AND REPORTS (SCHEDULES)

1. The authority citation for part 141 continues to read as follows:

Authority: 15 U.S.C. 79; 16 U.S.C. 791a-828c, 2601-2645; 31 U.S.C. 9701; 42 U.S.C. 7101-7352.

§ 141.400 [Amended]

2. In § 141.400, paragraph (b)(3)(i), the word “June” is removed and the word “July” is inserted in its place.

[FR Doc. 04-14027 Filed 6-21-04; 8:45 am]

BILLING CODE 6717-01-P